DEPARTMENT OF TRANSPORTATION

Federal Aviation Administration

[Summary Notice No. PE-2003-65]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Caren Centorelli, Office of Rulemaking (ARM-1), Federal Aviation Administration, 800 Independence Avenue, SW., Washington, DC 20591. Tel. (202) 267-8199.

This notice is published pursuant to 14 CFR 11.85 and 11.91.

Issued in Washington, DC on November 10, 2003.
Donald P. Byrne,
Assistant Chief Counsel for Regulations.

Dispositions of Petitions

Docket No.: FAA-2002-14013.

Petitioner: EMBRAER Empresa Brasileira de Aeronáutica S.A.

Section of 14 CFR Affected: 14 CFR 25.841(a)(2)(ii), Amendment 25-87.

Description of Relief Sought/Disposition: To permit EMBRAER, for the Model ERJ-170 series airplanes, to be relieved of the requirement that the airplane cabin altitude during a decompression be limited to 40,000 feet for any duration.

Grant, 10/24/2003, Exemption No. 8160.

Docket No.: FAA-2003-15575.

Petitioner: Associated Air Center.

Section of 14 CFR Affected: 14 CFR 25.785(d) and 25.813(e).

Description of Relief Sought/Disposition: To provide relief from the requirements of § 25.785(d), amendment 25-32, that requires a firm handhold be provided in the aisles and § 25.813(e), amendment 25-46, to allow installation of interior doors between passenger compartments, on the Boeing model 767-200, serial number 33685.

Grant, 10/17/2003, Exemption No.8157.

[FR Doc. 03-28818 Filed 11-18-03; 8:45 am]

BILLING CODE 4910-13-P